DEPARTMENT OF COMMERCE

Foreign-Trade Zones Board

[B-5-2026]

Foreign-Trade Zone (FTZ) 238 Notification of Proposed Production Activity; Celanese Acetate LLC; (Cellulose Acetate Tow and Flake); Narrows, Virginia

The New River Valley Economic Development Alliance, Inc., grantee of FTZ 238, submitted a notification of proposed production activity to the FTZ Board (the Board) on behalf of Celanese Acetate LLC (Celanese) for Celanese's facility in Narrows, Virginia within Subzone 238E. The notification conforming to the requirements of the Board's regulations (15 CFR 400.22) was received on January 14, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: Cellulose Acetate Tow Filament Yarn; Cellulose Acetate Tow Filament; and Nonplasticized Cellulose Acetate Flakes (duty rate ranges from 5.6% to 8.8%).

The proposed foreign-status materials/components include: High-Purity Wood Pulp (duty free). The request indicates that certain materials/components are subject to duties under section 1702(a)(1)(B) of the International Emergency Economic Powers Act (section 1702) or section 301 of the Trade Act of 1974 (section 301), depending on the country of origin. The applicable section 1702 and section 301 decisions require subject merchandise to be admitted to FTZs in privileged foreign status (19 CFR 146.41). The request also indicates that high purity wood pulp may be subject to an antidumping/countervailing duty (AD/CVD) order/investigation if imported from certain countries. The Board's regulations (15 CFR 400.13(c)(2)) require that merchandise subject to AD/CVD orders, or items which would be otherwise subject to suspension of liquidation under AD/CVD procedures if they entered U.S. customs territory, be admitted to the zone in privileged foreign status (19 CFR 146.41).

Public comment is invited from interested parties. Submissions shall be addressed to the Board's Executive Secretary and sent to: ftz@trade.gov. The closing period for their receipt is March 2, 2026.

A copy of the notification will be available for public inspection in the “Online FTZ Information System” section of the Board's website.

For further information, contact John Frye at john.frye@trade.gov.

Dated: January 15, 2026.
Elizabeth Whiteman,
Executive Secretary.

[FR Doc. 2026-01087 Filed 1-20-26; 8:45 am]

BILLING CODE 3510-DS-P